OFFICE OF SPECIAL COUNSEL

Notice for Public Comment: OSC Annual Survey

AGENCY: U.S. Office of Special Counsel (OSC).

ACTION: Notice and request for public comment.

SUMMARY: The U.S. Office of Special Counsel is seeking approval from the Office of Management and Budget (OMB) for the reinstatement of an expired information collection request (ICR) under the Paperwork Reduction Act (PRA). OSC is statutorily required to conduct an annual survey assessing the effectiveness of its operations, including the handling of Prohibited Personnel Practice (PPP) complaints, whistleblower disclosures, and enforcement efforts. The collection gathers feedback from individuals who have sought OSC's assistance.

DATES: Written comments must be received on or before June 9, 2025.

ADDRESSES: Submit written comments to:

—By mail: Barbara Wheeler Jones, U.S. Office of Special Counsel, 1730 M Street NW, Suite 218, Washington, DC 20036.

-By email: frliaison@osc.gov.

FOR FURTHER INFORMATION CONTACT: Hnin Khaing, Senior Litigation Counsel, at (202) 804-7000 or via email at frliaison@osc.gov.

SUPPLEMENTARY INFORMATION: OSC is an independent agency responsible for investigating allegations of prohibited personnel practices (PPPs) under 5 U.S.C. 2302(b), protecting whistleblowers, enforcing certain federal employment laws under titles 5 and 38 of the U.S. Code, and overseeing compliance with the Hatch Act regarding political activities. Pursuant to section 13 of Public Law 103-424 (1994) (5 U.S.C. 1212 note), OSC is required to conduct an annual survey to evaluate its services. Specifically, the survey must:

1. Determine whether individuals seeking OSC's assistance were fully informed of their rights;

2. Assess whether individuals achieved success either at OSC or the Merit Systems Protection Board (MSPB); and

3. Evaluate the level of satisfaction of individuals with the treatment received from OSC, regardless of the outcome.

This annual survey consists of four electronic questionnaires with up to 12 questions each, targeting individuals who have:

—Filed a complaint or disclosure with OSC, or

—Requested an advisory opinion from the Hatch Act Unit. The survey assesses:

—Timeliness and clarity of OSC communications;

—The types of claims submitted and their review status;

—Resolution outcomes; and

—Overall satisfaction with OSC's processes.

OSC publishes the survey results annually in its report to Congress. Prior annual reports are available at www.osc.gov or by calling (202) 804-7000. The prior OMB-approved survey (OMB Control Number 3255-0003) expired on September 30, 2024.

To comply with statutory requirements, OSC must complete the review of survey responses before the end of fiscal year 2025. Timely data collection is essential to OSC's mission and reporting obligations to Congress.

Type of Review: Reinstatement of a previously approved information collection.

Title: OSC Annual Survey.

OMB Control Number: 3255-0003.

Affected Public: Individuals or their representatives who sought OSC's services.

Respondent Obligation: Voluntary.

Estimated Number of Respondents: 2,700.

Estimated Time per Response: 15 minutes.

Estimated Total Annual Burden: 675 hours.

Frequency of Collection: Annual.

OSC invites public comment on the following issues:

1. Whether the proposed collection of information is necessary for the proper performance of OSC's functions, including whether the information has practical utility;

2. The accuracy of OSC's estimate of the burden of the proposed collection of information, including the validity of the methodology and assumptions used;

3. Ways to enhance the quality, utility, and clarity of the information to be collected; and

4. Ways to minimize the burden of the collection of information on respondents, including through the use of automated collection techniques or other forms of information technology.

Dated: April 3, 2025.
Barbara Wheeler Jones,
Chief, Case Review Division, U.S. Office of Special Counsel.

[FR Doc. 2025-06068 Filed 4-8-25; 8:45 am]

BILLING CODE 7405-01-P